DEPARTMENT OF AGRICULTURE

Submission for OMB Review; Comment Request

December 10, 2012.

The Department of Agriculture will submit the following information collection requirement(s) to OMB for review and clearance under the Paperwork Reduction Act of 1995, Public Law 104-13 on or after the date of publication of this notice. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, Washington, DC; OIRA_Submission@OMB.EOP.GOV or fax (202) 395-5806 and to Departmental Clearance Office, USDA, OCIO, Mail Stop 7602, Washington, DC 20250-7602.

Comments regarding these information collections are best assured of having their full effect if received by January 14, 2013. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Agricultural Marketing Service

Title: Export Certificate Request Forms.

OMB Control Number: 0581-NEW.

Summary of Collection: The Agricultural Marketing Service, Dairy Grading Branch, dairy grading program is a voluntary user fee program authorized under the Agricultural Marketing Act of 1946 (7 U.S.C. 1621). The regulations governing inspection and grading services of manufactured or processed dairy products are contained in 7 CFR part 58. International markets are increasing for U.S. dairy products. Forms will provide a format for exporters to provide information to the Dairy Grading Branch on consignments they wish to export so that the Dairy Grading Branch can issue the proper health certificate with the information required by the importing country.

Need and Use of the Information: Importing countries are requiring certification as to production methods and sources of raw ingredients for dairy products. The information required on the sanitary certificates varies from country to country requiring specific forms for each country. Such information includes, but not limited to, identity of the importer and exporter; consignment specifics and border entry point at the country of destination. Information gathered from the applicants is transferred to the proper health certificate, certified by the proper authority and returned to the exporter. The collection of the information on the forms is necessary for the Dairy Grading Branch to be able to properly complete the required export certificate.

Description of Respondents: Business or other for-profit.

Number of Respondents: 250.

Frequency of Responses: Reporting: Each time a product is exported.

Total Burden Hours: 4,129.

Charlene Parker,
Departmental Information Collection Clearance Officer.

[FR Doc. 2012-30108 Filed 12-12-12; 8:45 am]

BILLING CODE 3410-02-P